DEPARTMENT OF TRANSPORTATION

Federal Aviation Administration

14 CFR Part 97

[Docket No. 30772; Amdt. No. 3416 ]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 25, 2011. The compliance date for each SIAP, associated Takeoff Minimums, and ODP is specified in the amendatory provisions.

The incorporation by reference of certain publications listed in the regulations is approved by the Director of the Federal Register as of March 25, 2011.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on March 4, 2011.
John McGraw,
Deputy Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 7 APR 2011

Jacksonville, FL, Jacksonville Intl, ILS or LOC RWY 7, ILS RWY 7 (CAT II), ILS RWY 7 (CAT III), Amdt 12D

Nampa, ID, Nampa Muni, RNAV (GPS) RWY 11, Amdt 1

Pittsburg, KS, Atkinson Muni, Takeoff Minimums and Obstacle DP, Amdt 1

Wayne NE, Wayne Muni, Takeoff Minimums and Obstacle DP, Amdt 4

Binghamton, NY, Greater Binghamton/Edwin A Link Field, RNAV (GPS) RWY 10, Orig

Binghamton, NY, Greater Binghamton/Edwin A Link Field, RNAV (GPS) RWY 28, Amdt 2

Binghamton, NY, Greater Binghamton/Edwin A Link Field, VOR RWY 10, Amdt 7

Reading, PA, Reading Rgnl/Carl A Spaatz Field, ILS OR LOC RWY 13, Amdt 1A

Reading, PA, Reading Rgnl/Carl A Spaatz Field, ILS OR LOC RWY 36, Amdt 30A

Reading, PA, Reading Rgnl/Carl A Spaatz Field, NDB RWY 36, Amdt 25, CANCELLED

Columbia, SC, Columbia Metropolitan, RADAR-1, Amdt 13

Burlington/Mount Vernon, WA, Skagit Rgnl, Takeoff Minimums and Obstacle DP, Amdt 1

Delavan, WI, Lake Lawn, RNAV (GPS) RWY 18, Orig-A, CANCELLED

Delavan, WI, Lake Lawn, RNAV (GPS) RWY 36, Orig, CANCELLED

Delavan, WI, Lake Lawn, Takeoff Minimums and Obstacle DP, Amdt 1, CANCELLED

Effective 5 MAY 2011

Riverside, CA, Riverside Muni, RNAV (GPS) RWY 9, Amdt 1

Atlanta, GA, Paulding Northwest Atlanta, RNAV (GPS) RWY 13, Amdt 1

Atlanta, GA, Paulding Northwest Atlanta, Takeoff Minimums and Obstacle DP, Amdt 1

Kamuela, HI, Waimea-Kohala, RNAV (GPS) RWY 4, Amdt 1

Kamuela, HI, Waimea-Kohala, VOR/DME RWY 4, Amdt 1

Boone, IA, Boone Muni, Copter NDB OR GPS 225, Amdt 4A, CANCELLED

Boone, IA, Boone Muni, NDB RWY 15, Amdt 19B, CANCELLED

Boone, IA, Boone Muni, NDB RWY 33, Amdt 6B, CANCELLED

Carroll, IA, Arthur N Neu, NDB RWY 31, Amdt 7, CANCELLED

Council Bluffs, IA, Council Bluffs Muni, Takeoff Minimums and Obstacle DP, Amdt 1

Decorah, IA Decorah Muni, NDB RWY 29, Amdt 1A, CANCELLED

Decorah, IA Decorah Muni, Takeoff Minimums and Obstacle DP, Amdt 2

Guthrie Center, IA, Guthrie County Rgnl, NDB RWY 18, Orig-A, CANCELLED

Perry, IA, Perry Muni, NDB RWY 14, Amdt 2B, CANCELLED

Perry, IA, Perry Muni, NDB RWY 32, Amdt 5B, CANCELLED

Sibley, IA, Sibley Muni, Takeoff Minimums and Obstacle DP, Orig

Chicago, IL, Chicago-O'Hare Intl, ILS OR LOC RWY 22R, Amdt 8A

Kingman, KS, Kingman Airport-Clyde Cessna Field, Takeoff Minimums and Obstacle DP, Orig

Homer, LA, Homer Muni, NDB RWY 12, Amdt 2, CANCELLED

Homer, LA, Homer Muni, RNAV (GPS) RWY 12, Amdt 1, CANCELLED

Homer, LA, Homer Muni, RNAV (GPS) RWY 30, Amdt 1, CANCELLED

Homer, LA, Homer Muni, Takeoff Minimums and Obstacle DP, Orig, CANCELLED

Lake Charles, LA, Lake Charles Rgnl, Takeoff Minimums and Obstacle DP, Orig

Lake Providence, LA, Byerley, RNAV (GPS) RWY 17, Orig, CANCELLED

Lake Providence, LA, Byerley, Takeoff Minimums and Obstacle DP, Orig, CANCELLED

Nantucket, MA, Nantucket Memorial, RNAV (GPS) RWY 33, Orig-A

Kalamazoo, MI, Kalamazoo/Battle Creek Intl, GPS RWY 5, Orig-A, CANCELLED

Kalamazoo, MI, Kalamazoo/Battle Creek Intl, GPS RWY 23, Orig-A, CANCELLED

Kalamazoo, MI, Kalamazoo/Battle Creek Intl, RNAV (GPS) RWY 5, Orig

Kalamazoo, MI, Kalamazoo/Battle Creek Intl, RNAV (GPS) RWY 23, Orig

Marlette, MI, Marlette, Takeoff Minimums and Obstacle DP, Orig

Niles, MI, Jerry Tyler Memorial, RNAV (GPS) RWY 15, Orig

Niles, MI, Jerry Tyler Memorial, RNAV (GPS) RWY 33, Orig

Niles, MI, Jerry Tyler Memorial, Takeoff Minimums and Obstacle DP, Amdt 6

Niles, MI, Jerry Tyler Memorial, VOR-A, Orig

Niles, MI, Jerry Tyler Memorial, VOR OR GPS RWY 3, Amdt 7A, CANCELLED

Niles, MI, Jerry Tyler Memorial, VOR OR GPS RWY 21, Amdt 3A, CANCELLED

Ada/Twin Valley, MN, Norman County Ada/Twin Valley, GPS RWY 33, Orig-A, CANCELLED

Ada/Twin Valley, MN, Norman County Ada/Twin Valley, RNAV (GPS) RWY 33, Orig

Fergus Falls, MN, Fergus Falls Muni-Einar Mickelson Fld, RNAV (GPS) RWY 13, Orig

Grand Marais, MN, Grand Marais/Cook County, RNAV (GPS) RWY 9, Orig

Grand Marais, MN, Grand Marais/Cook County, RNAV (GPS) RWY 27, Amdt 1

Little Falls, MN, Littles Falls/Morrison County-Lindberg Fld, Takeoff Minimums and Obstacle DP, Amdt 4

Wadena, MN, Wadena Muni, Takeoff Minimums and Obstacle DP, Orig

Ahoskie, NC, Tri-County, Takeoff Minimums and Obstacle DP, Orig

New Bern, NC, Coastal Carolina Rgnl, RADAR-1, Amdt 2B, CANCELLED

Fargo, ND, Hector Intl, ILS OR LOC RWY 36, Amdt 1

Kenmare, ND, Kenmare Muni, Takeoff Minimums and Obstacle DP, Orig

Concord, NH, Concord Muni, RNAV (GPS) RWY 12, Orig-B

Concord, NH, Concord Muni, RNAV (GPS) RWY 17, Orig-B

Concord, NH, Concord Muni, RNAV (GPS) RWY 35, Orig-B

Newark, NJ, Newark Liberty Intl, GLS RWY 22L, Orig-B

Newark, NJ, Newark Liberty Intl, ILS OR LOC RWY 11, Amdt 2A

Newark, NJ, Newark Liberty Intl, ILS OR LOC RWY 22L, ILS RWY 22L (SA CAT I), ILS RWY 22L (SA CAT II), Amdt 12A

Raton, NM, Raton Muni/Crews Field, GPS RWY 2, Amdt 1A, CANCELLED

Raton, NM, Raton Muni/Crews Field, GPS RWY 25, Amdt 1, CANCELLED

Raton, NM, Raton Muni/Crews Field, NDB RWY 2, Amdt 5, CANCELLED

Raton, NM, Raton Muni/Crews Field, RNAV (GPS) RWY 2, Orig

Raton, NM, Raton Muni/Crews Field, RNAV (GPS) RWY 25, Orig

Ruidoso, NM, Sierra Blanca Rgnl, CAPITAN ONE Graphic DP

Ruidoso, NM, Sierra Blanca Rgnl, GPS RWY 24, Orig-A, CANCELLED

Ruidoso, NM, Sierra Blanca Rgnl, RNAV (GPS) RWY 24, Orig

Ardmore, OK, Ardmore Downtown Executive, GPS RWY 17, Orig-A, CANCELLED

Ardmore, OK, Ardmore Downtown Executive, GPS RWY 35, Orig-A, CANCELLED

Ardmore, OK, Ardmore Downtown Executive, RNAV (GPS) RWY 17, Orig

Ardmore, OK, Ardmore Downtown Executive, RNAV (GPS) RWY 35, Orig

Kingsville, TX, Kleberg County, NDB RWY 13, Amdt 6

Muleshoe, TX, Muleshoe Muni, Takeoff Minimums and Obstacle DP, Orig

Uvalde, TX, Garner Field, Takeoff Minimums and Obstacle DP, Orig

Waco, TX, TSTC Waco, GPS RWY 17L, Orig-B, CANCELLED

Waco, TX, TSTC Waco, GPS RWY 35R, Orig-A, CANCELLED

Waco, TX, TSTC Waco, NDB RWY 35R, Amdt 11

Waco, TX, TSTC Waco, RNAV (GPS) RWY 17L, Orig

Waco, TX, TSTC Waco, RNAV (GPS) RWY 35R, Orig

Fort Atkinson, WI, Atkinson Muni, Takeoff Minimums and Obstacle DP, Orig

[FR Doc. 2011-6117 Filed 3-24-11; 8:45 am]

BILLING CODE 4910-13-P